DEPARTMENT OF COMMERCE

National Oceanic and Atmospheric Administration

Proposed Information Collection; Comment Request; Alaska Rockfish Pilot Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 7, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Patsy A. Bearden, (907) 586-7008 or patsy.bearden@noaa.gov.

SUPPLEMENTARY INFORMATION:

I. Abstract

In Section 802 of the Consolidated Appropriations Act of 2004, the United States (U.S.) Congress included a directive to the Secretary of Commerce to establish, in consultation with the North Pacific Fishery Management Council, a pilot program for management of three rockfish fisheries in the Central Gulf of Alaska (CGOA) in the exclusive economic zone off the coast of Alaska. The Rockfish Pilot Program provides exclusive harvesting and processing privileges for a specific set of rockfish species and associated species harvested incidentally to those CGOA rockfish; an area from 140° W. long. to 168° W. long.

II. Method of Collection

Paper reports are required from participants; these reports are transmitted by U.S. mail or facsimile.

III. Data

OMB Control Number: 0648-0545.

Form Number: None.

Type of Review: Regular submission.

Affected Public: Business or other for-profit organizations.

Estimated Number of Respondents: 1,142.

Estimated Time per Response: 2 hours each for: Application for Cooperative Quota, Application for Limited Access Fishery, Application for Entry-level Fishery, and Application to Opt-out; 2 hours for Application for Inter-Cooperative Transfer of Cooperative Quota and Application to Participate; 4 hours for Annual Rockfish Cooperative Report; 6 minutes for Rockfish Catch Report; 15 minutes for Cooperative Termination of Fishing Declaration; 30 minutes for Vessel Check-in and Check-out; and 4 hours for Appeals.

Estimated Total Annual Burden Hours: 3,270.

Estimated Total Annual Cost to Public: $5,909.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 2, 2009.
Gwellnar Banks,
Management Analyst, Office of the Chief Information Officer.

[FR Doc. E9-2496 Filed 2-5-09; 8:45 am]

BILLING CODE 3510-22-P